NATIONAL SCIENCE FOUNDATION

Sunshine Act Meeting; National Science Board

The National Science Board, pursuant to NSF regulations (45 CFR part 614), the National Science Foundation Act, as amended (42 U.S.C. 1862n-5), and the Government in the Sunshine Act (5 U.S.C. 552b), hereby gives short notice of the scheduling of an Executive Committee teleconference for the transaction of National Science Board business. The Executive Committee determined that the interests of the National Science Foundation require the short notice.

DATE & TIME: Thursday, October 20, 2016 from 5:00 p.m. to 5:30 p.m. EDT.

SUBJECT MATTER: (1) Committee Chair's Opening Remarks; (2) Approval of Executive Committee Minutes of July 2016; (3) IPA Program Review.

STATUS: Open.

This meeting will be held by teleconference at the National Science Foundation, 4201Wilson Blvd., Arlington, VA 22230. A public audio stream will be available for this meeting. Request the link by contacting nationalsciencebrd@nsf.gov prior to the teleconference. Please refer to the National Science Board Web site for additional information and schedule updates (time, place, subject matter or status of meeting) which may be found at http://www.nsf.gov/nsb/notices/. The point of contact for this meeting is Kathy Jacquart, 4201 Wilson Blvd., Arlington, VA 22230. Telephone: (703) 292-7000.

Chris Blair,
Executive Assistant to the NSB Office.

[FR Doc. 2016-25635 Filed 10-19-16; 4:15 pm]

BILLING CODE 7555-01-P